SECURITIES AND EXCHANGE COMMISSION

Sunshine Act Meeting

Notice is hereby given, pursuant to the provisions of the Government in the Sunshine Act, Pub. L. 94-409, that the Securities and Exchange Commission will hold the following meeting during the week of October 16, 2006:

An Open Meeting will be held on Wednesday, October 18, 2006 at 10 a.m. in Room L-002, the Auditorium.

The subject matter of the Open Meeting scheduled for Wednesday, October 18, 2006, will be:

The Commission will consider whether to adopt amendments to the best-price rule for issuer and third-party tender offers under the Securities Exchange Act of 1934. The amendments would clarify that the best-price rule applies only with respect to the consideration offered and paid for securities tendered in a tender offer and should not apply to consideration offered and paid according to employment compensation, severance or other employee benefit arrangements entered into with security holders of the issuer or subject company.

At times, changes in Commission priorities require alterations in the scheduling of meeting items.

For further information and to ascertain what, if any, matters have been added, deleted or postponed, please contact:

The Office of the Secretary at (202) 551-5400.

Dated: October 11, 2006.
Nancy M. Morris,
Secretary.

[FR Doc. 06-8718 Filed 10-12-06; 10:55 am]

BILLING CODE 8011-01-P